DEPARTMENT OF COMMERCE

International Trade Administration

[A-475-818]

Certain Pasta From Italy: Final Results of Changed Circumstances Review

AGENCY: Enforcement and Compliance, International Trade Administration, Department of Commerce.

SUMMARY: On November 9, 2020, the Department of Commerce (Commerce) published the preliminary results of the changed circumstances review (CCR) of the antidumping duty (AD) order on certain pasta from Italy and preliminarily determined that Newlat Food S.p.A. (Newlat) is not the successor-in-interest to Delverde Industrie Alimentari S.p.A. (Delverde). Based on our analysis for the final results, Commerce continues to find that Newlat is not the successor-in-interest to Delverde.

DATES: Applicable May 10, 2021.

FOR FURTHER INFORMATION CONTACT: John Hoffner, AD/CVD Operations, Office III, Enforcement and Compliance, International Trade Administration, U.S. Department of Commerce, 1401 Constitution Avenue NW, Washington, DC 20230, telephone: (202) 482-3315.

SUPPLEMENTARY INFORMATION:

Background

On July 14, 1996, Commerce published in the Federal Register an AD order on certain pasta from Italy.¹ On July 30, 2020, Newlat requested that, pursuant to section 751(b) of the Tariff Act of 1930, as amended (the Act), and 19 CFR 351.216(b), Commerce initiate and conduct a CCR of the Order to determine if Newlat is the successor-in-interest to Delverde. Newlat also requested that Commerce issue the preliminary results of this CCR in conjunction with the notice of initiation, as permitted under 19 CFR 315.221(c)(3)(ii).² The domestic industry filed no comments in response to the request for a CCR.

¹ See Notice of Antidumping Duty Order and Amended Final Determination of Sales at Less Than Fair Value: Certain Pasta from Italy, 61 FR 38544 (July 24, 1996) (Order); see also Notice of Second Amendment to the Final Determination and Antidumping Duty Order: Certain Pasta from Italy, 61 FR 42231 (August 14, 1996) (Order).

² See Newlat's Letter, “Certain Pasta from Italy—Request for Changed Circumstances Review,” dated July 30, 2020.

On November 9, 2020, Commerce initiated the CCR and preliminarily determined that Newlat is not the successor-in-interest to Delverde.³ On December 11, 2020, Newlat and the petitioners submitted case briefs regarding the Preliminary Results.⁴ No party submitted rebuttal briefs. On January 13, 2021, Commerce held a video conference with counsel to Newlat in lieu of the hearing requested on December 9, 2020, the request for which had been withdrawn on December 22, 2020.⁵ Commerce received no requests from the petitioner for a hearing.

³ See Certain Pasta from Italy: Initiation and Preliminary Results of Changed Circumstances Review, 85 FR 71315 (November 9, 2020) (Preliminary Results), and accompanying Preliminary Decision Memorandum.

⁴ See Newlat's Letter, “Certain Pasta from Italy—Changed Circumstances Review—Case Brief,” dated December 11, 2020; see also Petitioner's Letter, “Certain Pasta from Italy—Case Brief,” dated December 11, 2020.

⁵ See Commerce's Letter, “Changed Circumstances Review of Certain Pasta from Italy: Ex Parte Meeting with Counsel to Newlat,” dated January 13, 2021; see also Newlat's Letter, “Certain Pasta from Italy—Changed Circumstances Review—Request for Public Hearing,” dated December 9, 2020; see also Newlat's Letter, “Certain Pasta from Italy—Withdrawal of Hearing Request,” dated December 22, 2020.

Scope of the Order

Imports covered by this Order are shipments of certain non-egg dry pasta. The merchandise subject to this Order is currently classifiable under subheadings 1901.90.9095 and 1902.19.20 of the Harmonized Tariff Schedule of the United States (HTSUS). Although the HTSUS subheadings are provided for convenience and customs purposes, the written description of the merchandise subject to the Order is dispositive. For the full description of the scope of the Order, see the Issues and Decision Memorandum.⁶

⁶ See accompanying Issues and Decision Memorandum.

Final Results of Changed Circumstances Review

All issues raised in the case briefs are addressed in the Issues and Decision Memorandum. A list of topics included in the Issues and Decision Memorandum is included as an Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

For the reasons set forth in the Preliminary Results and Commerce's analysis of the comments received, Commerce continues to find that Newlat has not provided sufficient evidence to demonstrate that the management, production facilities, supplier relationships, and customer base of Newlat, after the acquisition of Delverde, are materially similar to those of Delverde before Newlat's acquisition with respect to the production and sale of subject merchandise. Thus, Commerce continues to find that Newlat is not the successor-in-interest to Delverde. For the complete successor-in-interest analysis, refer to the Preliminary Decision Memorandum.⁷

⁷ Id.

Cash Deposit Requirements

As a result of this CCR, Newlat may not receive the company-specific weighted-average dumping margin previously determined for Delverde, but instead shall continue to be subject to the cash deposit rate currently in effect for Newlat, which is the all-others rate, 15.45 percent, as determined in the Section 129 Final.⁸ Further, as of the date of publication of these final results in the Federal Register, entries of the merchandise produced at the Delverde factory shall be treated as entries attributable to Newlat that are subject to the cash deposit rate in effect for Newlat.

⁸ See Implementation of the Findings of the WTO Panel in US—Zeroing (EC): Notice of Determinations Under Section 129 of the Uruguay Round Agreements Act and Revocations and Partial Revocations of Certain Antidumping Duty Orders, 86 FR 25261 (May 4, 2007) (Section 129 Final).

Administrative Protective Order

This notice serves as a reminder to parties subject to administrative protective orders (APOs) of their responsibility concerning the disposition of proprietary information disclosed under APO in accordance with 19 CFR 351.306. Timely written notification of the destruction of APO materials or conversion to judicial protective order is hereby requested. Failure to comply with the regulations and terms of an APO is a sanctionable violation.

Notification to Interested Parties

We are issuing this determination and publishing these final results in accordance with sections 751(b)(1) and 777(i)(1) of the Act and 19 CFR 351.216(b), 351.221(b) and 351.221(c)(3).

Dated: May 4, 2021.
Christian Marsh,
Acting Assistant Secretary for Enforcement and Compliance.

Appendix

List of Topics Discussed in the Issues and Decision Memorandum

I. Summary

II. Background

III. Scope of the Order

IV. Discussion of Interested Parties Comments

Comment 1: Whether Newlat Has Met Commerce's Successor-In-Interest Criteria

Comment 2: Relationship Between Delverde and Newlat

Comment 3: Evidence Supports Commerce's Successor-In-Interest Finding

V. Recommendation

[FR Doc. 2021-09866 Filed 5-7-21; 8:45 am]

BILLING CODE 3510-DS-P